DEPARTMENT OF THE INTERIOR

Bureau of Land Management

[LLOR-936000-L14300000-ET0000; HAG-11-0220; OROR-66533]

Notice of Application for Withdrawal and Public Meeting; Oregon

AGENCY: Bureau of Land Management, Interior.

ACTION: Notice.

SUMMARY: The United States Forest Service (USFS) has filed an application with the Bureau of Land Management (BLM) requesting the Secretary of the Interior to withdraw approximately 5,610 acres of National Forest System lands, for a period of 5 years in aid of legislation to protect certain lands along the Chetco Wild and Scenic River. This notice temporarily segregates the lands for up to 2 years from location and entry under the United States mining laws, and from operation of the mineral and geothermal leasing laws, while the withdrawal application is being processed. This notice also gives an opportunity to comment on the application and announces the date, time, and location of a public meeting.

DATES: Comments must be received by October 31, 2011.

ADDRESSES: Comments should be sent to the Oregon/Washington State Director, BLM, P.O. Box 2965, Portland, Oregon 97208-2965, or 333 SW. 1st Avenue, Portland, Oregon 97204.

FOR FURTHER INFORMATION CONTACT: Charles R. Roy, BLM Oregon/Washington State Office, 503-808-6189, or William C. Drummond, USFS Pacific Northwest Region, 503-808-2420. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The USFS has filed an application requesting that the Secretary of the Interior withdraw, for a 5-year period, the following described National Forest System lands from location and entry under the United States mining laws (30 U.S.C. ch. 2), and operation of the mineral and geothermal leasing laws, subject to valid existing rights.

The application applies only to the Federal lands within the following described lands. The intent of this description is to follow the outer boundary of the Chetco Wild and Scenic River corridor, downstream of the western boundary of the Kalmiopsis Wilderness, as said corridor is described in the official boundary package certified by the USFS, Regional Forester, Region 6, on December 18, 1998, and available for public review at 333 SW. 1st Avenue, Portland, Oregon 97204. The wild and scenic corridor contains approximately 5,610 acres in Curry County and lies within the following sections:

Willamette Meridian

T. 38 S., R. 11 W.,

secs. 5 to 7, inclusive, and sec. 18.

T. 38 S., R. 12 W.,

secs. 9 to 16, inclusive, sec. 21, secs. 27 to 29, inclusive, secs. 32 and 33.

T. 39 S., R. 12 W.,

secs. 4, 5, 8, 9, 16, 17, 20, 29, 30, and 31.

The purpose of the withdrawal is to temporarily segregate the lands in aid of legislation.

No suitable alternative sites were considered, as the pending legislation is to protect the lands specified in this notice. The use of a right-of-way, interagency agreement, or cooperative agreement would not provide adequate protection. The USFS would not need to acquire water rights to fulfill the purpose of the requested withdrawal.

Temporary land uses may be permitted during this segregative period, including licenses, permits, rights-of-way, and disposal of vegetative resources; however, the lands will be segregated from appropriation under the mining law.

Records related to the application may be examined by contacting Charles R. Roy at the above address or phone number.

On or before October 31, 2011, all persons who wish to submit comments, suggestions, or objections in connection with the application may present their views in writing to the BLM State Director at the address indicated above.

Comments, including names and street addresses of respondents, will be available for public review at the address indicated above during regular business hours. Before including your address, phone number, e-mail address, or other personal identifying information in your comment, be advised that your entire comment—including your personal identifying information—may be made publicly available at any time. While you can ask us in your comment to withhold from public review your personal identifying information, we cannot guarantee that we will be able to do so.

Notice is hereby given that a public meeting in connection with the application for withdrawal will be held on September 15, 2011 from 5 p.m. to 7 p.m. at the USFS, Gold Beach District Office located at 539 SW. Chetco Avenue, Brookings, Oregon. Interested parties may make oral statements at the meeting and/or may file written statements with the BLM. All statements received will be considered before any recommendation concerning the withdrawal is submitted to the Assistant Secretary—Land and Minerals Management for final action.

The application will be processed in accordance with the regulations set forth in 43 CFR part 2300.

Authority: 43 CFR 2310.3-1.

Fred O'Ferrall,
Chief, Branch of Land, Mineral, and Energy Resources.

[FR Doc. 2011-19302 Filed 7-29-11; 8:45 am]

BILLING CODE 3410-11-P